DEPARTMENT OF ENERGY

Federal Energy Regulatory Commission

Notice of Effectiveness of Exempt Wholesale Generator Status

State Edge Wind I LLC | EG18-20-000
State Edge Wind I Holdings LLC | EG18-21-000
Hardin Wind Energy LLC | EG18-22-000
Hardin Wind Energy Holdings LLC | EG18-23-000
Beech Ridge Energy II Holdings LLC | EG18-24-000
Clean Energy Future-Lordstown, LLC | EG18-25-000
Tahoka Wind, LLC | EG18-26-000

Take notice that during the month of February 2018, the status of the above-captioned entities as Exempt Wholesale Generators became effective by operation of the Commission's regulations. 18 CFR 366.7(a) (2017).

Dated: March 8, 2018.
Nathaniel J. Davis, Sr.,
Deputy Secretary

[FR Doc. 2018-05096 Filed 3-13-18; 8:45 am]

BILLING CODE 6717-01-P